DEPARTMENT OF TRANSPORTATION

Federal Highway Administration

Notice of Final Federal Agency Actions Oregon City Arch Bridge Rehabilitation Project; Clackamas County, OR

AGENCY: Federal Highway Administration (FHWA), DOT.

ACTION: Notice of Limitations on Claims for Judicial Review of Actions by FHWA.

SUMMARY: This notice announces actions taken by the FHWA that are final within the meaning of 23 U.S.C. 139(l)(1). The actions relate to a proposed bridge rehabilitation project, Oregon City Arch Bridge Rehabilitation Project, in Clackamas County, Oregon. This action grants approval for the project.

DATES: By this notice, the FHWA is advising the public of final agency actions subject to 23 U.S.C. 139(l)(1). A claim seeking judicial review of the Federal agency actions on the highway project will be barred unless the claim is filed on or before April 20, 2010. If the Federal law that authorizes judicial review of a claim provides a time period of less than 180 days for filing such claim, then that shorter time period still applies.

FOR FURTHER INFORMATION CONTACT: Michelle Eraut, Environmental Program Manager, Federal Highway Administration, 530 Center Street, NE., Suite 100, Salem, Oregon 97301, Telephone: (503) 587-4716. The Oregon City Arch Bridge Rehabilitation project categorical exclusion, re-evaluation and other project records are available upon written request from the Federal Highway Administration at the address shown above. Comments or questions concerning this proposed action and the Oregon City Arch Bridge Rehabilitation project should be directed to the FHWA at the address provided above.

SUPPLEMENTARY INFORMATION: Notice is hereby given that the FHWA, has taken final agency action subject to 23 U.S.C. 139 (l)(1) by issuing approval for the following bridge rehabilitation project in the State of Oregon: Oregon City Arch Bridge Rehabilitation Project. The project will repair and provide improvements to the bridge deck, bridge rails and deck joints. The structure will be cleaned, the sprayed-on gunite exterior will be removed and repaired, the deck will be restored, existing sidewalks and rails will be removed and replaced, and illumination will be repaired and replaced. All work will be consistent with State and Federal standards for preservation of this historic structure. Approximately 1,600 square feet of pavement will be reconstructed on the Oregon City side of the bridge to repair the existing ramp approach to the bridge. The actions by the Federal agencies and the laws under which such actions were taken are described in the categorical exclusion approved February 11, 2009, the re-evaluation approved on October 15, 2009, and in other documents in the FHWA project records. The re-evaluation, categorical exclusion and other project records are available by contacting the FHWA at the address provided above. This notice applies to all Federal agency decisions as of the issuance date of this notice and all laws under which such actions were taken, including but not limited to:

1. General: National Environmental Policy Act (NEPA) [42 U.S.C 4321-4347]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303]; Section 6(f) of the Land and Water Conservation Fund Act (LWCF) [16 U.S.C. 460(l)-8f].

4. Wildlife: Section 7 of the Endangered Species Act [16 U.S.C. 1536]; Migratory Bird Treaty Act [16 U.S.C. 703-712].

5. Historic and Cultural Resources: Section 106 of the National Historic Preservation Act of 1966, as amended [16 U.S.C. 470f].

6. Social and Economic: Title VI of the Civil Rights Act of 1964 [42 U.S.C. 2000(d) et seq.].

7. Wetlands and Water Resources: Clean Water Act [33 U.S.C. 1251-1377]; Rivers and Harbors Act of 1899 [33 U.S.C. 401-406]; Wild and Scenic Rivers Act [16 U.S.C. 1271-1287].

8. Executive Orders: Federal Actions to Address Environmental Justice in Minority Populations and Low Income Populations; E.O. 13175 Consultation and Coordination with Indian Tribal Governments.

(Catalog of Federal Domestic Assistance Program Number 20.205, Highway Planning and Construction. The regulations implementing Executive Order 12372 regarding intergovernmental consultation on Federal programs and activities apply to this program.)

Authority: 23 U.S.C. 139(l)(1).

Issued On: October 16, 2009.
Michelle Eraut,
Environmental Program Manager, Salem, Oregon.

[FR Doc. E9-25419 Filed 10-21-09; 8:45 am]

BILLING CODE 4910-22-P